DEPARTMENT OF COMMERCE

Foreign-Trade Zones Board

[Docket 35-2000]

Foreign-Trade Zone 74—Baltimore, Maryland Application for Expansion

An application has been submitted to the Foreign-Trade Zones (FTZ) Board (the Board) by the Baltimore Development Corporation, on behalf of the City of Baltimore, Maryland, grantee of FTZ 74, requesting authority to expand and reorganize its zone in the Baltimore, Maryland area, within the Baltimore Customs port of entry. The application was submitted pursuant to the provisions of the Foreign-Trade Zones Act, as amended (19 U.S.C. 81a-81u), and the regulations of the Board (15 CFR part 400). It was formally filed on July 7, 2000.

FTZ 74 was approved on January 21, 1982 (Board Order 183, 47 FR 5737, 2/8/82) and expanded on January 31, 1989 (Board Order 427, 54 FR 5992, 2/7/89). The zone project currently consists of approximately 150 acres at the following sites: Site 1A—6201-6301 Pulaski Highway, Baltimore; Site 2—open space 1 mile from the Holabird Park; Site 3—within the Point Breeze Business Center, 2500 Broening Highway, adjacent to the Dundalk Marine Terminal; Site 3A (Canton Warehouse ×1)—at the northwest corner of the Seagirt Marine Terminal at the intersection of Keith Avenue and Vail Street; Site 3B—warehouse at 1657-B South Highland Avenue, Baltimore, within the Highland Marine Terminal; Site 3C—2101 E. Fort Avenue, Locust Point; and, Site 4—Shed ×4 within the Port of Baltimore's Dundalk Marine Terminal and Piers 4/5 at the North Locust Point Marine Terminal.

The applicant, in a major revision to its zone plan, now requests authority to expand and reorganize its general-purpose zone to add 9 new sites; restore FTZ status to areas at existing Sites 1 and 3 that had been previously deleted, returning existing Sites 1 and 3 to their original boundaries as approved by the Board in 1982 and 1989 respectively; eliminate existing Site 2; and, redesignate existing Site 3 as Site 2. Sites authorized by certain previous temporary boundary modifications are included in the new sites, and the proposed expansion would supercede such modifications. The expansion and reconfiguration of the zone will result in a zone project consisting of eleven sites (1,300 acres) located in Baltimore City, at or adjacent to the Port of Baltimore. Sites 1 and 2 and Proposed Sites 3 to 8 are part of the Port of Baltimore complex and Sites 9-11 are business parks.

The revised zone plan for FTZ 74, as proposed, would be expanded and reorganized as follows: Site 1: (20 acres)—Holabird Industrial Park, Baltimore; Site 2: (127 acres)—within the Point Breeze Business Center, 2500 Broening Highway, adjacent to the Dundalk Marine Terminal, Baltimore; Proposed Site 3: (213 acres) Seagirt Marine Terminal, Baltimore; Proposed Site 4: (272 acres)—Dundalk Marine Terminal, Baltimore; Proposed Site 5: (97 acres)—Chesapeake Terminal and American Port Services Center, Baltimore; Proposed Site 6: (274 acres)—Atlantic and Fairfield Terminals, Baltimore; Proposed Site 7: (196 acres)—North & South Locust Point Terminals, Baltimore; Proposed Site 8: (157 acres)—Rukert and Clinton Street Marine Terminals, Baltimore; Proposed Site 9: (15 acres)—Belt's Business Center, 600 Folcroft Street, Baltimore; Proposed Site 10: (81 acres)—Pulaski Business Park, 6200 Pulaski Highway, Baltimore; and, Proposed Site 11: (12 acres)—Obrecht Business Center, 6200 Frankford Ave., Baltimore. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at the address below. The closing period for their receipt is September 11, 2000. Rebuttal comments in response to material submitted during the foregoing period may be submitted during the subsequent 15-day period (to September 26, 2000).

A copy of the application and accompanying exhibits will be available for public inspection at each of the following locations:

U.S. Department of Commerce, Export Assistance Center, 401 E. Pratt Street, Suite 2432, Baltimore, MD 21202

Office of the Executive Secretary, Foreign-Trade Zones Board, Room 4008, U.S. Department of Commerce, 14th & Pennsylvania Avenue NW., Washington, DC 20230.

Dated: July 7, 2000.
Dennis Puccinelli,
Executive Secretary.

[FR Doc. 00-17765 Filed 7-12-00; 8:45 am]

BILLING CODE 3510-DS-P